EXPORT-IMPORT BANK

[Public Notice: 2023-6040]

Agency Information Collection Activities; Submission to the Office of Management and Budget for Review and Approval; Comment Request; Annual Competitiveness Report Survey of Exporters and Lenders

AGENCY: Export-Import Bank of the United States.

ACTION: Notice of information collection; request for comment.

SUMMARY: The Export-Import Bank of the United States (EXIM), invites the general public and other Federal Agencies to comment on the proposed information collection, as required by the Paperwork Reduction Act of 1995. As required by Export-Import Bank Act of 1945 (see section 8A(a)(1) of EXIM's charter), EXIM will survey U.S. exporters and commercial lending institutions to understand their experience with EXIM “meeting financial competition from other countries whose exporters compete with United States exporters.” EXIM plans to survey exporters and lenders that have engaged with EXIM on medium- and long-term support over the previous calendar year or responded to at least one of EXIM's last two surveys. The potential respondents will be sent an electronic invitation to participate in the online survey.

DATES: Comments should be received on or before October 10, 2023 to be assured of consideration.

ADDRESSES: Comments may be submitted electronically on WWW.REGULATIONS.GOV (EIB 00-02) or by email Jessica.Ernst@exim.gov or by mail to Jessica Ernst, Export-Import Bank of the United States, 811 Vermont Ave. NW, Washington, DC 20571 Attn: OMB 3048-14-01.

FOR FURTHER INFORMATION CONTACT: For specific questions related to collection activities, please contact Jessica Ernst, Jessica.Ernst@exim.gov, 202-565-3711.

SUPPLEMENTARY INFORMATION: The proposed survey will ask participants about their potential or completed deals involving EXIM, their opinion of EXIM's policies and procedures, their interaction and perceptions of other export credit agencies, and impacts of overall market conditions on their businesses.

The survey can be reviewed at: https://img.exim.gov/s3fs-public/EXIM+Competitiveness+Report+Exporter+and+Lender+Survey+2023.pdf.

Titles and Form Number: EIB 00-02 Annual Competitiveness Report Survey of Exporters and Lenders.

OMB Number: 3048-0004.

Type of Review: Renewal.

Need and Use: The information requested is required by the Export-Import Bank Act of 1945, as amended, 12 U.S.C. 635g-1 (see section 8A(a)(1) of EXIM's charter) and enables EXIM to evaluate and assess its competitiveness with the programs and activities of official export credit agencies and to report on the Bank's status in this regard.

Affected Public:

The number of respondents: 100.

Estimated time per respondent: 15 minutes.

The frequency of response: Annually.

Annual hour burden: 25 total hours.

Dated: August 4, 2023.
Kalesha Malloy,
IT Specialist.

[FR Doc. 2023-17115 Filed 8-9-23; 8:45 am]

BILLING CODE 6690-01-P